DEPARTMENT OF DEFENSE

Department of the Navy

[Docket ID: USN-2010-0002]

Privacy Act of 1974; System of Records

AGENCY: Department of the Navy, DoD.

ACTION: Notice to amend a system of records.

SUMMARY: The Department of the Navy proposes to amend a system of records in its inventory of record systems subject to the Privacy Act of 1974 (5 U.S.C. 552a), as amended.

DATES: The changes will be effective on March 11, 2010, unless comments are received that would result in a contrary determination.

ADDRESSES: You may submit comments, identified by docket number and title, by any of the following methods:

* Federal Rulemaking Portal: http://www.regulations.gov. Follow the instructions for submitting comments.

* Mail: Federal Docket Management System Office, 1160 Defense Pentagon, Washington, DC 20301-1160.

Instructions: All submissions received must include the agency name and docket number for this Federal Register document. The general policy for comments and other submissions from members of the public is to make these submissions available for public viewing on the Internet at http://www.regulations.gov as they are received without change, including any personal identifiers or contact information.

FOR FURTHER INFORMATION CONTACT: Mrs. Miriam Brown-Lam (202) 685-6545.

SUPPLEMENTARY INFORMATION: The Department of the Navy systems of records notice subject to the Privacy Act of 1974, (5 U.S.C. 552a), as amended, has been published in the Federal Register and is available from the contact under FOR FURTHER INFORMATION CONTACT.

The specific changes to the record system being amended are set forth below followed by the notice, as amended, published in its entirety. The proposed amendment is not within the purview of subsection (r) of the Privacy Act of 1974 (5 U.S.C. 552a), as amended, which requires the submission of new or altered systems reports.

Dated: February 4, 2010.
Mitchell S. Bryman,
Alternate OSD Federal Register Liaison Officer, Department of Defense.

NM01500-9

SYSTEM NAME:

Integrated Learning Environment (ILE) Classes (September 19, 2005; 70 FR 54909).

CHANGES:

* * * * *

CATEGORIES OF RECORDS IN THE SYSTEM:

Delete entry and replace with “Name, home address, telephone numbers, Social Security Number (SSN), date of birth, unique personal identifier number assigned to individual, pay plan/grade, rank, occupation, Unit Identification Code (UIC), military status, individualized training plan, and course progress of individuals who register to take classes offered under Navy eLearning.”

AUTHORITY FOR MAINTENANCE OF THE SYSTEM:

Delete entry and replace with “5 U.S.C. 301, Departmental Regulations; 10 U.S.C. 5013, Secretary of the Navy; 10 U.S.C. 5042, Headquarters, Marine Corps; 14 U.S.C. 93, Commandant, U.S. Coast Guard General Powers; and E.O. 9397 (SSN), as amended.”

* * * * *

RETENTION AND DISPOSAL:

Delete entry and replace with “Disposition is pending. Until the National Archives and Records Administration approve a retention and disposal schedule, records will be treated as permanent.”

SYSTEM MANAGER(S) AND ADDRESS:

Delete entry and replace with “Commander, Program Executive Office for Enterprise Information Systems (PEO-EIS), 2451 Crystal Drive, Suite 1139, Arlington, VA 22202-4804.”

NOTIFICATION PROCEDURE:

Delete entry and replace with “Individual seeking to determine whether information about themselves is contained in this system should address written inquires to the Commander, Program Executive Office for Enterprise Information Systems (PEO-EIS) (ATTN: PMW-240 Program Manager), 2451 Crystal Drive, Suite 1139, Arlington, VA 22202-4804.

The system manager will require an original signature or a notarized signature as a means of proving the identity of the individual requesting access to the records.

Requests should contain full name, address, Social Security Number (SSN) and be signed.”

RECORD ACCESS PROCEDURES:

Delete entry and replace with “Individuals seeking access to records about themselves contained in this system of records should address written inquiries to the Commander, Program Executive Office for Enterprise Information Systems (PEO-EIS) (ATTN: PMW-240 Program Manager), 2451 Crystal Drive, Suite 1139, Arlington, VA 22202-4804.

The system manager will require an original signature or a notarized signature as a means of proving the identity of the individual requesting access to the records.

Requests should contain full name, address, Social Security Number (SSN) and be signed.”

* * * * *

RECORD SOURCE CATEGORIES:

Delete entry and replace with “Information is obtained from Individual; Navy eLearning; schools and educational institutions; Navy Personnel Command; and Naval Education and Training Command.”

* * * * *

NM01500-9

SYSTEM NAME:

Integrated Learning Environment (ILE) Classes.

SYSTEM LOCATION:

Naval Education Training Professional Development Technology Center (NETPDTC), Saufley Field, FL 32509-5337.

CATEGORIES OF INDIVIDUALS COVERED BY THE SYSTEM:

All uniformed service members, civilian, and contractor personnel having a valid Common Access Card (CAC) or Military ID Card; dependent family members of Navy, Marine Corps and Coast Guard military members (Active Duty and Reserve); and Non-Appropriated Fund personnel who are granted limited access for job performance requirements.

CATEGORIES OF RECORDS IN THE SYSTEM:

Name, home address, telephone numbers, Social Security Number (SSN), date of birth, unique personal identifier number assigned to individual, pay plan/grade, rank, occupation, Unit Identification Code (UIC), military status, individualized training plan, and course progress of individuals who register to take classes offered under Navy eLearning.

AUTHORITY FOR MAINTENANCE OF THE SYSTEM:

5 U.S.C. 301, Departmental Regulations; 10 U.S.C. 5013, Secretary of the Navy; 10 U.S.C. 5042, Headquarters, Marine Corps; 14 U.S.C. 93, Commandant, U.S. Coast Guard General Powers; and E.O. 9397 (SSN), as amended.

PURPOSE(S):

The purpose of this system is to identify individuals who enroll and take computerized training courses offered through the Navy's Integrated Learning Environment (ILE). Each user will be able to create an individualized training plan, complete Web-based training courses and track their course progress.

ROUTINE USES OF RECORDS MAINTAINED IN THE SYSTEM, INCLUDING CATEGORIES OF USERS AND THE PURPOSES OF SUCH USES:

In addition to those disclosures generally permitted under 5 U.S.C. 552a(b) of the Privacy Act of 1974, these records contained therein may specifically be disclosed outside the DoD as a routine use pursuant to 5 U.S.C. 552a(b)(3) as follows:

The DoD ‘Blanket Routine Uses’ that appear at the beginning of the Navy's compilation of systems of records notices apply to this system.

POLICIES AND PRACTICES FOR STORING, RETRIEVING, ACCESSING, RETAINING, AND DISPOSING OF RECORDS IN THE SYSTEM:

STORAGE:

Records are maintained on electronic storage media.

RETRIEVABILITY:

Records are retrieved by name, Social Security Number (SSN) and date of birth.

SAFEGUARDS:

Access is provided on a `need-to-know' basis and to authorized authenticated personnel only. Records are maintained in controlled access rooms or areas. Data is limited to personnel training information. Computer terminal access is controlled by terminal identification and the password or similar system. Terminal identification is positive and maintained by control points. Physical access to terminals is restricted to specifically authorized individuals. Password authorization, assignment and monitoring are the responsibility of the functional managers.

RETENTION AND DISPOSAL:

Disposition is pending. Until the National Archives and Records Administration approve a retention and disposal schedule, records will be treated as permanent.

SYSTEM MANAGER(S) AND ADDRESS:

Commander, Program Executive Office for Enterprise Information Systems (PEO-EIS), 2451 Crystal Drive, Suite 1139, Arlington, VA 22202-4804.

NOTIFICATION PROCEDURE:

Individual seeking to determine whether information about themselves is contained in this system should address written inquires to the Commander, Program Executive Office for Enterprise Information Systems (PEO-EIS) (ATTN: PMW-240 Program Manager), 2451 Crystal Drive, Suite 1139, Arlington, VA 22202-4804.

The system manager will require an original signature or a notarized signature as a means of proving the identity of the individual requesting access to the records.

Requests should contain full name, address, Social Security Number (SSN) and be signed.

RECORD ACCESS PROCEDURES:

Individuals seeking access to records about themselves contained in this system of records should address written inquiries to the Commander, Program Executive Office for Enterprise Information Systems (PEO-EIS) (ATTN: PMW-240 Program Manager), 2451 Crystal Drive, Suite 1139, Arlington, VA 22202-4804.

The system manager will require an original signature or a notarized signature as a means of proving the identity of the individual requesting access to the records.

Requests should contain full name, address, Social Security Number (SSN) and be signed.

CONTESTING RECORD PROCEDURES:

The Navy's rules for accessing records, and for contesting contents and appealing initial agency determinations are published in Secretary of the Navy Instruction 5211.5; 32 CFR part 701; or may be obtained from the system manager.

RECORD SOURCE CATEGORIES:

Information is obtained from individual; Navy eLearning; schools and educational institutions; Navy Personnel Command; and Naval Education and Training Command.

EXEMPTIONS CLAIMED FOR THE SYSTEM:

None.

[FR Doc. 2010-2748 Filed 2-8-10; 8:45 am]

BILLING CODE 5001-06-P